DEPARTMENT OF COMMERCE

National Oceanic and Atmospheric Administration

[I.D. 012004A]

Marine Mammals; File No. 1019-1657

AGENCY: National Marine Fisheries Service (NMFS), National Oceanic and Atmospheric Administration (NOAA), Commerce.

ACTION: Issuance of permit amendment.

SUMMARY: Notice is hereby given that Daniel J. Cox, Natural Exposures, 16595 Brackett Creek Road, Bozeman, Montana 59715, has been issued an amendment to photography Permit No. 1019-1657-00.

ADDRESSES: The amendment and related documents are available for review upon written request or by appointment in the following office(s):

Permits, Conservation and Education Division, Office of Protected Resources, NMFS, 1315 East-West Highway, Room 13705, Silver Spring, MD 20910; phone (301)713-2289; fax (301)713-0376; and,

Southwest Region, NMFS, 501 West Ocean Blvd., Suite 4200, Long Beach, CA 90802-4213; phone (562)980-4001; fax (562)980-4018.

FOR FURTHER INFORMATION CONTACT: Jennifer Jefferies or Jill Lewandowski, (301)713-2289.

SUPPLEMENTARY INFORMATION: The requested amendment has been granted under the authority of the Marine Mammal Protection Act of 1972, as amended (16 U.S.C. 1361 et seq.), and the Regulations Governing the Taking and Importing of Marine Mammals (50 CFR part 216).

On December 27, 2001, notice was published in the Federal Register (66 FR 66888) that the above-named applicant had submitted a request for a permit to take one species of marine mammal by Level B harassment during the course of commercial photographic activities in San Simeon, Piedras Blancas, Ano Nuevo State Reserve, Point Reyes National Seashore, the Farallones and Channel Islands, California. The requested permit was issued on April 9, 2002 (67 FR 19167), under the authority of Section 104(c)(6) of the Marine Mammal Protection Act of 1972, as amended (16 U.S.C. 1361 et seq.). This permit amendment extends the expiration date to January 31, 2005.

Dated: January 23, 2004.
Stephen L. Leathery,
Chief, Permits, Conservation and Education Division, Office of Protected Resources, National Marine Fisheries Service.

[FR Doc. 04-2304 Filed 2-3-04; 8:45am]

BILLING CODE 3510-22-S